DEPARTMENT OF AGRICULTURE

Submission for OMB Review; Comment Request

March 8, 2022.

The Department of Agriculture has submitted the following information collection requirement(s) to OMB for review and clearance under the Paperwork Reduction Act of 1995. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 11, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Spot Market Hog Pandemic Program (SMHPP).

OMB Control Number: 0560-0305.

Summary of Collection: In the Coronavirus Aid, Relief, Economic Security Act (Pub. L. 116-136), the Secretary is using an estimated $50 million in funds to assist applicants under the Spot Market Hog Pandemic Program (SMHPP). Applicants will receive payments under the CARES Act to compensate eligible hog producers for hogs sold through a negotiated sale from April 16, 2020, through September 1, 2020.

Need and Use of the Information: To determine whether a producer is eligible for SMHPP and to calculate a payment, an applicant is required to submit FSA-940, SMHPP application; AD-2047, Customer Data Worksheet (if applicable); CCC-901, Member Information for Legal Entities, if applicable; CCC-902, Farm Operating Plan for Payment Eligibility; CCC-941, Average Adjusted Gross Income (AGI) Certification and Consent to Disclosure of Tax Information; FSA-1123, Certification of 2020 AGI (if applicable); and AD-1026—Highly Erodible Land Conservation (HELC) and Wetland Conservation Certification. Failure to solicit applications will result in failure to provide payments to eligible producers as intended by the CARES Act.

Description of Respondents: Businesses or other for-profit and Farms.

Number of Respondents: 23,113.

Frequency of Responses: Reporting; Other (one-time).

Total Burden Hours: 18,105.

Ruth Brown,
Departmental Information Collection Clearance Officer.

[FR Doc. 2022-05186 Filed 3-10-22; 8:45 am]

BILLING CODE 3410-05-P